DEPARTMENT OF ENERGY

Federal Energy Regulatory Commission

[Docket No. CP10-164-000]

Columbia Gas Transmission, LLC; Notice of Request Under Blanket Authorization

May 4, 2010.

Take notice that on April 22, 2010, Columbia Gas Transmission, LLC (Columbia), 5151 San Felipe, Suite 2500, Houston, Texas 77056 filed in Docket No. CP10-164-000, a prior notice request pursuant to sections 157.205 and 157.208 of the Commission's regulations under the Natural Gas Act (NGA). Columbia seeks authorization to increase the Commission-approved maximum allowable operating pressure (MAOP) on its Line D-531 from 80 pounds per square inch gage (psig) to 99 psig. Line D-531 is located in Wood County, Ohio, and extends from Columbia's Line D-100 to Waterville Gas & Oil Company's (Waterville) facilities in Wood County, Ohio. Columbia proposes to perform these activities under its blanket certificate issued in Docket No. CP83-76-000 [22 FERC ¶ 62,029 (1983)], all as more fully set forth in the application which is on file with the Commission and open to public inspection.

Specifically, the facility at issue (Line D-531) is an approximately 2.5-mile, 4- and 6- inch diameter pipeline extending from Columbia's Line D-100 to an interconnect with Waterville's facilities in Wood County, Ohio. Line D-531 was originally constructed in the 1950s with sections being replaced in 1961, 1963, and 1965. The facilities were originally constructed to serve the City of Waterville and have continued in that operation since they were constructed. Columbia proposes to up-rate the entire pipeline. The proposed increase to the Commission-approved MAOP of Line D-531 is being made to enable Columbia to meet a contractual pressure obligation to Waterville.

The filing may be viewed on the Web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to James R. Downs, Vice President, Regulatory Affairs, Columbia Gas Transmission, LLC, 5151 San Felipe, Suite 2500, Houston, Texas 77056, or by calling (713) 267-4759 (telephone) or (713) 267-4755 (fax), jdowns@nisource.com, Cynthia Donaldson, Director, Regulatory & Government Affairs, Columbia Gas Transmission, LLC, 5151 San Felipe, Suite 2500, Houston, Texas 77056, or by calling (713) 267-4763 (telephone) or (713) 331-7456 (fax), cdonaldson@nisource.com, Victoria J. Hamilton, Certificate Lead, Columbia Gas Transmission, LLC, P.O. Box 1273, Charleston, West Virginia 25325-1273, or by calling (304) 357-2297 (telephone) or (304) 357-3206 (fax), vhamilton@nisource.com, or to Frederic J. George, Senior Counsel, Columbia Gas Transmission, LLC, P.O. Box 1273, Charleston, West Virginia 25325-1273, or by calling (304) 357-2359 (telephone) or (304) 357-3206 (fax), fgeorge@nisource.com.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link. Persons unable to file electronically should submit an original and 14 copies of the protest or intervention to the Federal Energy Regulatory Commission, 888 First Street, NE., Washington, DC 20426.

Kimberly D. Bose,
Secretary.

[FR Doc. 2010-11104 Filed 5-10-10; 8:45 am]

BILLING CODE 6717-01-P